DEPARTMENT OF AGRICULTURE

Animal and Plant Health Inspection Service

9 CFR Parts 56, 145, 146, and 147

[Docket No. APHIS-2011-0101]

RIN 0579-AD83

National Poultry Improvement Plan and Auxiliary Provisions

Correction

In rule document 2014-16037 appearing on pages 38752-38768 in the issue of Wednesday, July 9, 2014, make the following correction:

§ 147.21 [Corrected]

1. In section 147.21, on page 38766, in the second column, the thirty-seventh through fortieth lines should read: “Program Standards, as defined in § 147.51. Sanitation procedures may also be approved by the Administrator in accordance with § 147.53(d)(2).”

[FR Doc. C1-2014-16037 Filed 7-30-14; 8:45 am]

BILLING CODE 1505-01-D